ENVIRONMENTAL PROTECTION AGENCY

[UST-2004-0001; FRL-7814-8]

Agency Information Collection Activities; Submission to OMB for Review and Approval; Comment Request; Underground Storage Tanks: Technical and Financial Requirements, and State Program Approval Procedures (Renewal), EPA ICR Number 1360.07, OMB Control Number 2050-0068

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection, which is scheduled to expire on October 31, 2004. Under OMB regulations, the Agency may continue to conduct or sponsor the collection of information while this submission is pending at OMB. This ICR describes the nature of the information collection and its estimated burden and cost.

DATES: Additional comments may be submitted on or before October 18 2004.

ADDRESSES: Submit your comments, referencing Docket ID No. UST-2004-0001, to (1) EPA online using EDOCKET (our preferred method), by e-mail to rcra-docket@epa.gov, or by mail to: EPA Docket Center, Environmental Protection Agency, Underground Storage Tank (UST) Docket, Mail Code 5305T, 1200 Pennsylvania Ave., NW., Washington, DC 20460, and (2) OMB at: Office of Information and Regulatory Affairs, Office of Management (OMB), Attention: Desk Officer for EPA, 725 17th Street, NW., Washington, DC 20503.

FOR FURTHER INFORMATION CONTACT: Elizabeth Ketchum, Office of Underground Storage Tanks, Mail Code 5401G, Environmental Protection Agency, 1200 Pennsylvania Ave., NW., Washington, DC 20460; telephone number: (703) 603-7144; fax number: (703) 603-0175; e-mail address: ketchum.elizabeth@epa.gov.

SUPPLEMENTARY INFORMATION: EPA has submitted the following ICR to OMB for review and approval according to the procedures prescribed in 5 CFR 1320.12. On April 19, 2004 (69 FR 20870), EPA sought comments on this ICR pursuant to 5 CFR 1320.8(d). EPA received no comments.

EPA has established a public docket for this ICR under Docket ID No. UST-2004-0001, which is available for public viewing at the UST Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the UST Docket is (202) 566-0270. An electronic version of the public docket is available through EPA Dockets (EDOCKET) at http://www.epa.gov/edocket. Use EDOCKET to submit or view public comments, access the index listing of the contents of the public docket, and access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Underground Storage Tanks: Technical and Financial Requirements, and State Program Approval Procedures (Renewal).

Abstract: Subtitle I of the Resource Conservation and Recovery Act (RCRA), as amended, requires that EPA develop standards for UST systems, as may be necessary, to protect human health and the environment, and establish procedures for approving State programs in lieu of the Federal program. EPA promulgated technical and financial requirements for owners and operators of USTs at 40 CFR part 280 and State program approval procedures at 40 CFR part 281. This ICR is a comprehensive presentation of all information collection requirements contained at 40 CFR parts 280 and 281.

The data collected under 40 CFR part 280 are used by the owners and operators and/or EPA or the implementing agency to monitor results of testing, inspections, and operations of UST systems, as well as demonstrate compliance with regulations. EPA believes strongly that if the minimum requirements specified under the regulations are not met, neither the facilities nor EPA can ensure that UST systems are being managed in a manner protective of human health and the environment.

The data collected under 40 CFR part 281 are used by EPA to determine whether to approve a State program. Before granting approval, EPA must determine that programs will be no less stringent than the Federal program and contain adequate enforcement mechanisms.

An agency may not conduct or sponsor, and a person is not required to respond to, a collection of information unless it displays a currently valid OMB control number. The OMB control numbers for EPA's regulations are listed in 40 CFR part 9 and are identified on the form and/or instrument, if applicable.

Burden Statement: For UST facilities, the annual reporting and recordkeeping burden is estimated to average 24 hours per respondent. For States applying for program approval, the annual reporting and recordkeeping burden is estimated to average 28 hours per respondent.

Burden means the total time, effort, or financial resources expended by persons to generate, maintain, retain, or disclose or provide information to or for a Federal agency. This includes the time needed to review instructions; develop, acquire, install, and use technology and systems for the purposes of collecting, validating, verifying, processing, maintaining, disclosing, and providing information; adjust the existing ways to comply with any previously applicable instructions and requirements; train personnel to be able to respond to a collection of information; search data sources; complete and review the collection of information; and transmit or otherwise disclose the information.

Respondents/Affected Entities: Owners and operators of USTs and States that implement UST programs are potentially affected by this information collection.

Estimated Number of Respondents: 254,705 (254,666 UST facilities and 39 State programs).

Frequency of Response: Varies depending on the individual reporting and recordkeeping requirements.

Estimated Total Annual Hour Burden: 6,132,237 hours.

Estimated Total Annual Cost: $674.45 million, includes $80.25 million annual capital/startup costs, $263.26 million annual O&M costs and $330.94 annual labor costs.

Changes in the Estimates: There is an increase of 106,694 hours in the total estimated burden currently identified in the OMB Inventory of Approved ICR Burdens. This increase is due to updated respondent universe and burden and cost estimates from the Office of Underground Storage Tanks (OUST) and the regulated community. The current OMB inventory reports $363,000 in total annualized costs (which includes capital/startup and O&M costs); there was an error in the burden associated with the previous ICR (1360.06) and the cost estimate should have been $363,561,000. The total annualized cost requested in this ICR is $343,507,000. This corrects the current OMB inventory and is based on updated data from the Office of Underground Storage Tanks (OUST) and the regulated community. This new burden is $20.05 million less than the previous ICR submission.

Dated: September 5, 2004.
Oscar Morales,
Director, Collection Strategies Division.

[FR Doc. 04-20980 Filed 9-16-04; 8:45 am]

BILLING CODE 6560-50-P